DEPARTMENT OF THE TREASURY

Submission for OMB Review; Comment Request

June 23, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 31, 2000 to be assured of consideration.

Bureau of Alcohol, Tobacco and Firearms (BATF)

OMB Number: 1512-0250.

Recordkeeping Requirement ID Number: ATF REC 5110/5.

Type of Review: Extension.

Title: Distilled Spirits Plants (DSP)—Transaction and Supporting Records.

Description: Transaction records provide the source data for accounts of distilled spirits in all DSP operations. They are used by DSP proprietors to account for spirits and by ATF to verify those accounts and consequent tax liabilities.

Respondents: Business of other for-profit.

Estimated Number of Recordkeepers: 278.

Estimated Burden Hours Per Recordkeeper: 22 hours.

Frequency of Response: On occasion.

Estimated Total Recordkeeping Burden: 6,060 hours.

OMB Number: 1512-0462.

Recordkeeping Requirement ID Number: ATF REC 5110/9.

Type of Review: Extension.

Title: Registration and Records of Vinegar Vaporizing Plants.

Description: Data is necessary to identify persons producing and using distilled spirits in the manufacture of vinegar and to account for spirits so produced and used.

Respondents: Business or other for-profit.

Estimated Number of Recordkeepers: 1.

Estimated Burden Hours Per Recordkeeper: 1 hour.

Frequency of Response: On occasion.

Estimated Total Recordkeeping Burden: 1 hour.

OMB Number: 1512-0466.

Recordkeeping Requirement ID Number: ATF REC 5170/7

Type of Review: Extension.

Title: Alternate Methods or Procedures and Emergency Variations From Requirements for Exports of Liquors.

Description: ATF allows exporters to request approval of alternative methods from those specified in regulations under 27 CFR Part 252. ATF uses the information to evaluate need, jeopardy to the revenue, and compliance with law. Also used to identify areas where regulations need change.

Respondents: Business or other for-profit.

Estimated Number of Recordkeepers: 500.

Estimated Burden Hours Per Recordkeeper: 2 hours.

Frequency of Response: On occasion.

Estimated Total Recordkeeping Burden: 200 hours.

OMB Number: 1512-0469.

Form Number: None.

Type of Review: Extension.

Title: Labeling of Sulfites in Alcoholic Beverages.

Description: In a final rule published in the Federal Register on July 9, 1986 (51 FR 34706) the Food and Drug Administration established 10 parts per million as the threshold for declaration of sulfites in food and wine products. The Bureau of Alcohol, Tobacco and Firearms on September 30, 1986, published a final rule (ATF-236)(51 FR 34706) establishing the threshold for declaration of sulfites in alcoholic beverages.

Respondents: Business or other for-profit.

Estimated Number of Respondents: 4,787.

Estimated Burden Hours Per Respondent: 40 minutes.

Frequency of Response: On occasion.

Estimated Total Reporting Burden: 3,159 hours.

Clearance Officer: Frank Bowers (202) 927-8930, Bureau of Alcohol, Tobacco and Firearms, Room 3200, 650 Massachusetts Avenue, N.W., Washington, DC 20226.

OMB Reviewer: Alexander T. Hunt (202) 395-7860, Office of Management and Budget, Room 10202, New Executive Office Building, Washington, DC 20503.

Mary A. Able,
Departmental Reports Management Officer.

[FR Doc. 00-16534 Filed 6-29-00; 8:45 am]

BILLING CODE 4810-31-P